DEPARTMENT OF TRANSPORTATION

Federal Aviation Administration

14 CFR Part 91

Stage 3 Compliance for Jets Weighing 75,000 Pounds or Less After December 31, 2015

AGENCY: Federal Aviation Administration (FAA), DOT.

ACTION: Notice reminding operators of noise compliance deadline.

SUMMARY: The Federal Aviation Administration is reminding operators of jet airplanes weighing 75,000 pounds or less that after December 31, 2015, operations in the contiguous United States may be conducted only with airplanes that comply with at least Stage 3 noise levels. Operators that fail to meet this requirement may be subject to civil penalties. Certain operations of airplanes not meeting Stage 3 may be conducted under special flight authorizations granted by the FAA on a case by case basis.

DATES: Compliance is due after December 31, 2015.

FOR FURTHER INFORMATION CONTACT: Questions regarding this restriction and its applicability may be directed to Rebecca Cointin AEE-100, Office of Environment and Energy, Federal Aviation Administration, 800 Independence Avenue SW., Washington, DC 20591; telephone: (202) 267-4770; email: rebecca.cointin@faa.gov. For legal questions, contact Karen Petronis, AGC-220, Regulations Division, Office of the Chief Counsel, Federal Aviation Administration, 800 Independence Avenue SW., Washington, DC 20591; telephone: (202) 267-3073; email karen.petronis@faa.gov.

SUPPLEMENTARY INFORMATION:

Background

The noise from smaller jet airplanes continues to have an impact on communities near airports. In recognition of this impact, Congress addressed the operations of these airplanes in Section 506 of the FAA Modernization and Reform Act of 2012. That section states: “[A]fter December 31, 2015, a person may not operate a civil subsonic jet airplane with a maximum weight of 75,000 pounds or less, and for which an airworthiness certificate (other than an experimental certificate) has been issued, to or from an airport in the United States unless the Secretary of Transportation finds that the aircraft complies with [S]tage 3 noise levels.” Stage 3 noise levels are the certificated noise levels as established in 14 CFR part 36.

In 2013, the FAA codified this statutory requirement as § 91.881. The prohibition applies to all civil operations in the 48 contiguous United States regardless of purpose (except for those airplanes that have an experimental airworthiness certificate). The law also provides for operation of otherwise prohibited airplanes after that date under certain circumstances. The authorized purposes were codified in § 91.883, which includes the procedure for applying for a special flight authorization from the FAA.

Operators of airplanes that do not comply with Stage 3 noise levels may choose to replace them, or to incorporate noise-reduction technologies that may be available to make the airplanes Stage 3 noise compliant. Operators that continue to fly non-compliant airplanes after December 31, 2015, will be subject to applicable civil penalties.

Issued in Washington, DC, on July 10, 2015.
Lourdes Maurice,
Director, Office of Environment and Energy.

[FR Doc. 2015-17382 Filed 7-15-15; 8:45 am]

BILLING CODE 4910-13-P